NATIONAL SCIENCE FOUNDATION

Office of Polar Programs Advisory Committee

In accordance with Federal Advisory Committee Act (Pub. L. 92-463, as amended), the National Science Foundation announces the following meeting:

Name: Office of Polar Programs Advisory Committee (1130).

Dates/Time: May 13, 2002; 8:30 am to 5 pm. May 14, 2002; 8:30 am to 2:00 pm.

Place: National Science Foundation, 4201 Wilson Blvd., Room 1235, Arlington, VA.

Type of Meeting: Open.

Contract Person: Brenda Williams, Office of Polar Programs (OPP), National Science Foundation, 4201 Wilson Boulevard, Arlington, VA 22230. (703) 292-8030.

Minutes: May be obtained from the contact person list above.

Purpose of Meeting: To advise NSF on the impact of its policies, programs and activities on the polar research community; to provide advice to the Director of OPP on issues related to long range planning, and to form ad hoc subcommittees to carry out needed studies and tasks.

Agenda: Discussion of NSF-wide initiatives, long-range planning and GPRA.

Dated: April 23, 2002
Susanne Bolton,
Committee Management Officer.

[FR Doc. 02-10294 Filed 4-25-02; 8:45 am]

BILLING CODE 7555-01-M